SECURITIES AND EXCHANGE COMMISSION

[Release No. 34-77495; File No. SR-NASDAQ-2016-046]

Self-Regulatory Organizations; The NASDAQ Stock Market LLC; Notice of Filing and Immediate Effectiveness of Proposed Rule Change To Amend Fees Under Rules 7015(b) and (g)

April 1, 2016.

Correction

In notice document 2016-07937 beginning on page 20426 in the issue of Thursday, April 7, 2016, make the following correction:

1. On page 20428, in the second column, in the 27th line, “April 27, 2016” should read “April 28, 2016.”

[FR Doc. C1-2016-07937 Filed 4-27-16; 8:45 am]

BILLING CODE 1505-01-D